DEPARTMENT OF COMMERCE

National Oceanic and Atmospheric Administration

RIN 0648-XC694

South Atlantic Fishery Management Council; Public Meeting

AGENCY: National Marine Fisheries Service (NMFS), National Oceanic and Atmospheric Administration (NOAA), Commerce.

ACTION: Meeting of the South Atlantic Fishery Management Council.

SUMMARY: In addition to a Council Member Visioning Workshop, the South Atlantic Fishery Management Council (Council) will hold a joint meeting of the Ecosystem-Based Management Committee and Habitat & Environmental Protection Committee as well as meetings of the: Dolphin Wahoo Committee; Southeast Data, Assessment and Review Committee (partially CLOSED SESSION); Snapper Grouper Committee; King & Spanish Mackerel Committee; Advisory Panel Selection Committee (CLOSED SESSION); Scientific & Statistical Selection Committee (CLOSED SESSION); Law Enforcement Committee (CLOSED SESSION); Executive Finance Committee; Protected Resources Committee; Data Collection Committee; and a meeting of the Full Council. The Council will take action as necessary. The Council will also hold an informal public question and answer session regarding agenda items and a formal public comment session.

DATES: The Council meeting will be held from 9 a.m. on Monday, June 10, 2013 until 1:30 p.m. on Friday, June 14, 2013.

ADDRESSES:

Meeting address: The meeting will be held at the Hutchinson Island Marriott, 555 NE Ocean Boulevard, Stuart, FL 34996; telephone: (800) 775-5936 or (772) 225-3700; fax: (772) 225-7131.

Council address: South Atlantic Fishery Management Council, 4055 Faber Place Drive, Suite 201, N. Charleston, SC 29405.

FOR FURTHER INFORMATION CONTACT: Kim Iverson, Public Information Officer, SAFMC; telephone: (843) 571-4366 or toll free (866) SAFMC-10; fax: (843) 769-4520; email: kim.iverson@safmc.net.

SUPPLEMENTARY INFORMATION: The items of discussion in the individual meeting agendas are as follows:

Council Member Visioning Workshop Agenda, Monday, June 10, 2013, 9 a.m. Until 12 noon

1. Receive a recapitulation of the March 2013 Visioning Workshop.

2. Review the visioning decision document as well as the Snapper Grouper Fishery Management Plan (FMP) objectives.

3. Develop a Vision Statement and provide guidance to staff.

Joint Ecosystem-Based Management Committee and Habitat & Environmental Protection Committee Agenda, Monday, June 10, 2013, 1:30 p.m. Until 3 p.m.

1. Receive a report on the following Advisory Panel (AP) meetings: Coral AP; Habitat & Environmental Protection AP; and Deepwater Shrimp AP.

2. Review and discuss actions and alternatives in Coral Amendment 8, pertaining to Coral Habitat Areas of Particular Concern (HAPCs) and transit through the Oculina HAPC. Review and discuss spatial information on habitat mapping and fishery activity for modified Coral HAPC area alternatives. Provide guidance to staff and recommend approval of Coral Amendment 8 for public hearings.

3. Receive and discuss an update on ecosystem activities and provide guidance to staff.

Dolphin Wahoo Committee Agenda, Monday, June 10, 2013, 3 p.m. Until 4:30 p.m.

1. Receive and discuss updates on the status of commercial and recreational catches versus quotas.

2. Review and discuss comments from the Dolphin Wahoo AP meeting.

3. Review the Decision Document for Dolphin Wahoo Amendment 5, pertaining to bag limit sales of fish and changes to the Annual Catch Limit (ACL) and the Allowable Biological Catch (ABC). Discuss actions and alternatives to Amendment 5, select preferred alternatives and recommend approval of the amendment for public hearings.

Southeast Data, Assessment and Review (SEDAR) Committee Agenda, Monday, June 10, 2013, 4:30 p.m. Until 5:30 p.m. (Note: A Portion of This Meeting Will be CLOSED)

1. Receive a SEDAR activities update, review SEDAR Steering Committee recommendations and provide guidance to Committee members.

2. Receive an overview of the report and recommendations from the Only Reliable Catch Stocks (ORCS) Workshop.

3. Receive an overview of Council research prioritization and approve a research plan.

4. Develop recommendations for the following SEDAR projects: SEDAR 38 (King Mackerel) Schedule and Terms of Reference (TOR); SEDAR 32 (Gray Triggerfish and Blueline Tilefish) and SEDAR 36 (Snowy Grouper) TOR review; and participants for SEDAR 38 and SEDAR 36.

Note: There will be an informal public question and answer session with the NMFS Regional Administrator and the Council Chairman on Tuesday, June 11, 2013, beginning at 5:30 p.m.

Snapper Grouper Committee Agenda, Tuesday, June 11, 2013, 8:30 a.m. Until 5 p.m. and Wednesday, June 12, 2013, 8:30 a.m. Until 12 noon

1. Receive and discuss the status of commercial and recreational catches versus ACLs.

2. Receive a report on total removals of red snapper in 2012 from United States South Atlantic waters.

3. Receive an update on the status of the following amendments under formal Secretarial review: Regulatory Amendment 13, pertaining to MRIP (Marine Recreational Information Program) adjustments; Regulatory Amendment 15, relating to Yellowtail Snapper, Gag Grouper and Red Snapper; Amendment 28, regarding the Red Snapper framework; Amendment 27, pertaining to the management authority, framework and crew size for Blue Runner; Regulatory Amendment 18, relating to Vermilion Snapper and Red Porgy; and Regulatory Amendment 19, pertaining to Black Sea Bass.

4. Receive updates on the Marine Resources Monitoring, Assessment and Prediction Program (MARMAP), the Southeast Area Monitoring and Assessment Program (SEAMAP) and the Southeast Fishery-Independent Survey (SEFIS) group.

5. Receive reports on the Snapper Grouper AP meeting and the Scientific and Statistical Committee (SSC) meeting.

6. Receive an overview of Regulatory Amendment 14, relating to a multitude of species in the Snapper Grouper FMP, and Regulatory Amendment 16, pertaining to Golden Tilefish. Provide guidance to staff and recommend approval of the amendments for public hearings.

7. Receive an overview of Snapper Grouper Amendment 30, regarding Vessel Monitoring Systems (VMS); review public hearing comments; discuss recommendation of approval of Amendment 30 for formal Secretarial review; and deem the codified text as necessary and appropriate.

8. Receive an update on Snapper Grouper Amendment 29, pertaining to allocations and ORCS; and provide guidance to staff on content and timing of the amendment.

9. Receive an overview of options for Snapper Grouper Amendment 22, relating to tags in order to track recreational harvest of species; and provide guidance to staff on content and timing of the amendment.

King & Spanish Mackerel Committee Agenda, Wednesday, June 12, 2013, 1:30 p.m. Until 5 p.m.

1. Receive and discuss the status of commercial and recreational catches versus ACLs for Atlantic group King Mackerel, Spanish Mackerel and Cobia.

2. Receive and discuss an SSC report on SEDAR 28, pertaining to Spanish Mackerel and Cobia, and take action as necessary.

3. Receive a report on the King & Spanish Mackerel AP meeting.

4. Receive an overview of the Joint South Atlantic/Gulf of Mexico (Gulf) Mackerel Amendment 19, pertaining to permits and tournament sale requirements, and the Joint Mackerel Amendment 20, regarding boundaries and transit provisions; select preferred alternatives for the amendments; modify the amendments as appropriate; provide guidance to staff; and recommend approval of the amendments for public hearings.

5. Receive an overview of actions in the South Atlantic Mackerel Framework; select preferred alternatives; modify the amendment as appropriate; provide guidance to staff; and recommend approval of the South Atlantic Framework actions for public hearings.

Note: A formal public comment session will be held on Wednesday, June 12, 2013, beginning at 5:30 p.m. on Snapper Grouper Amendment 30, followed by comment on any other item on the Council agenda. The amount of time provided to individuals will be determined by the Chairman based on the number of individuals wishing to comment.

AP Selection Committee Agenda, Thursday, June 13, 2013, 8:30 a.m. Until 9:30 a.m. (Closed Session)

1. Review AP applications and develop recommendations for appointments and reappointments.

SSC Selection Committee Agenda, Thursday, June 13, 2013, 9:30 a.m. Until 10:30 a.m. (Closed Session)

1. Review SSC and Socio-Economic Panel (SEP) applications and develop recommendations for appointments and reappointments.

Law Enforcement Committee Agenda, Thursday, June 13, 2013, 10:30 a.m. Until 11 a.m. (Closed Session)

1. Review Law Enforcement Officer of the Year nominations and develop a recommendation for officer of the year.

Executive Finance Committee Agenda, Thursday, June 13, 2013, 11 a.m. Until 12 noon

1. Receive an update on the status of Council calendar year (CY) 2013 funding as well as CY 2013 budget expenditures.

2. Receive an update on the Joint Committee on South Florida Management Issues activities and discuss the Florida Tarpon issue.

3. Discuss Council Follow-up and Priorities and address other issues as appropriate.

Protected Resources Committee Agenda, Thursday, June 13, 2013, 1:30 p.m. Until 3 p.m.

1. Receive an update from the Southeast Regional Office (SERO) Protected Resources Division on the following: Atlantic Sturgeon; coral species; Right Whales and the interaction with the Black Sea Bass pot fishery; Nassau Grouper; and Herring.

2. Receive briefings on the American Eel and Loggerhead Sea Turtles and critical habitat.

3. Discuss updates and briefings and take action as appropriate.

Data Collection Committee Agenda, Thursday, June 13, 2013, 3 p.m. Until 5 p.m.

1. Receive an update on the status of the review of the Joint South Atlantic/Gulf Generic Dealer Amendment and the Joint South Atlantic/Gulf Generic For-Hire Reporting Amendment (South Atlantic portion only); discuss the amendments and take action as appropriate.

2. Receive a project report on the pilot study that tested the feasibility of electronic logbook reporting in the Gulf for for-hire vessels, including a briefing on the project findings and the next possible steps for the project. Discuss the report and the briefing and take action as appropriate.

3. Receive an overview on the Coastal Migratory Pelagics (CMP) Framework for Headboat Reporting in the Gulf; discuss the overview; provide guidance to staff; and approve the next steps for the CMP Framework.

4. Receive an overview of both the Joint South Atlantic/Gulf Generic Commercial Logbook Reporting Amendment and the Joint South Atlantic/Gulf Generic Charterboat Reporting Amendment as well as an overview of Gulf actions for the amendments; discuss the overviews; provide guidance to staff; and recommend approval of the next steps for the amendments.

5. Receive an overview of the Southeast Fisheries Science Center (SEFSC) sampling protocols (size/age) for biological samples and Red Snapper and Black Sea Bass research projects; discuss the overview; and take action as appropriate.

Council Session Agenda, Friday, June 14, 2013, 8 a.m. Until 1:30 p.m.

8-8:15 a.m.: Call the meeting to order, adopt the agenda, approve the May 2013 minutes, and receive a presentation.

8:15-9 a.m.: The Council will receive a report from the Snapper Grouper Committee and is scheduled to approve Regulatory Amendments 14 and 16 for public hearings. The Council will either approve or disprove Snapper Grouper Amendment 30 for formal Secretarial review. The Council will consider other Committee recommendations and take action as appropriate.

9-9:15 a.m.: The Council will receive a report from the Joint Ecosystem-Based Management Committee and Habitat & Environmental Protection Committee and is scheduled to approve Coral Amendment 8 for public hearings. The Council will consider other Committee recommendations and take action as appropriate.

9:15-9:30 a.m.: The Council will receive a report from the Dolphin Wahoo Committee and is scheduled to approve Dolphin Wahoo Amendment 5 for public hearings. The Council will consider other Committee recommendations and take action as appropriate.

9:30-9:45 a.m.: The Council will receive a report from the SEDAR Committee and is scheduled to approve the SEDAR Research Plan. The Council is scheduled to approve the following: SEDAR 38 Schedule and TOR; SEDAR 32 and 36 TOR reviews; and participants for SEDAR 38 and SEDAR 36. The Council will consider other Committee recommendations and take action as appropriate.

9:45-10 a.m.: The Council will receive a report from the Council Member Visioning Workshop and is scheduled to approve the Vision Statement. The Council will consider other workshop recommendations and take action as appropriate.

10-10:15 a.m.: The Council will receive a report from the King & Spanish Mackerel Committee and is scheduled to approve the following for public hearings: Mackerel Amendment 19; Mackerel Amendment 20; and South Atlantic Framework actions. The Council will consider other Committee recommendations and take action as appropriate.

10:15-10:30 a.m.: The Council will receive a report from the AP Selection Committee and is scheduled to approve Committee recommendations for the appointment/reappointment of AP members. The Council will consider other Committee recommendations and take action as appropriate.

10:30-10:45 a.m.: The Council will receive a report from the SSC Selection Committee and is scheduled to approve Committee recommendations for the appointment/reappointment of SSC members. The Council will consider other Committee recommendations and take action as appropriate.

10:45-11 a.m.: The Council will receive a report from the Law Enforcement Committee and will choose the Law Enforcement Officer of the Year. The Council will consider other Committee recommendations and take action as appropriate.

11-11:15 a.m.: The Council will receive a report from the Executive Finance Committee; will approve the Council Follow-up and Priorities documents; and will take action on the Florida Tarpon issue. The Council will consider other Committee recommendations and take action as appropriate.

11:15-11:30 a.m.: The Council will receive a report from the Protected Resources Committee and will consider Committee recommendations. The Council will take action as appropriate.

11:30-11:45 a.m.: The Council will receive a report from the Data Collection Committee and will consider Committee recommendations. The Council will take action as appropriate.

11:45-1:30 p.m.: The Council will receive presentations and status reports from the NOAA Southeast Regional Office (SERO) and the NMFS SEFSC, including the status of Shrimp Amendment 9, which would expedite the closure process during severe cold events in order to protect overwintering shrimp populations and would revise the Minimum Stock Size Threshold (MSST) proxy for Pink Shrimp. The Council will review and develop recommendations on Experimental Fishing Permits as necessary; review agency and liaison reports; and discuss other business, including upcoming meetings. The Council will also hold a Closed Session to address litigation if necessary.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: May 20, 2013.
Tracey L. Thompson,
Acting Deputy Director, Office of Sustainable Fisheries, National Marine Fisheries Service.

[FR Doc. 2013-12281 Filed 5-22-13; 8:45 am]

BILLING CODE 3510-22-P